DEPARTMENT OF TRANSPORTATION

Federal Aviation Administration

Commercial Space Transportation Advisory Committee—Open Meeting

AGENCY: Federal Aviation Administration (FAA), DOT.

ACTION: Notice of Commercial Space Transportation Advisory Committee Open Meeting.

SUMMARY: Pursuant to Section 10(a)(2) of the Federal Advisory Committee Act (Pub. L. 92-463, 5 U.S.C. App. 2), notice is hereby given of a meeting of the Commercial Space Transportation Advisory Committee (COMSTAC). The meeting will take place on Thursday, May 10, 2012, from 8 a.m. to 5 p.m., and Friday, May 11, 2012, from 8 a.m. to 4:30 p.m., at the National Housing Center, 1201 15th Street NW., Washington, DC 20005. This will be the 55th meeting of the COMSTAC.

The proposed agenda for May 10 features a meeting of the full COMSTAC in the morning, followed by meetings of the working groups as follows:

—Business/Legal 10 a.m.-12 noon)

—Operations (1 p.m.-3 p.m.)

—Export Controls (3 p.m.-5 p.m.)

The proposed agenda for the morning of May 11 features the Systems working group (8:30 a.m.-10:30). The working groups will then present their reports and recommendations, followed by the opportunity for public comment.

Interested members of the public may submit relevant written statements for the COMSTAC members to consider under the advisory process. Statements may concern the issues and agenda items mentioned above and/or additional issues that may be relevant for the U.S. commercial space transportation industry. Interested parties wishing to submit written statements should contact Susan Lender, DFO, (the Contact Person listed below) in writing (mail or email) by May 3, 2012, so that the information can be made available to COMSTAC members for their review and consideration before the May 10 and 11, 2012 meetings. Written statements should be supplied in the following formats: one hard copy with original signature and/or one electronic copy via email.

Subject to approval, a portion of the May 11, 2012, meeting will be closed to the public (starting at approximately 3:45 p.m.).

An agenda will be posted on the FAA Web site at www.faa.gov/go/ast. For specific information concerning the times and locations of the COMSTAC working group meetings, contact the Contact Person listed below.

Individuals who plan to attend and need special assistance, such as sign language interpretation or other reasonable accommodations, should inform the Contact Person listed below in advance of the meeting.

FOR FURTHER INFORMATION CONTACT: Susan Lender (AST-100), Office of Commercial Space Transportation (AST), 800 Independence Avenue SW., Room 331, Washington, DC 20591, telephone (202) 267-8029; Email susan.lender@faa.gov. Complete information regarding COMSTAC is available on the FAA Web site at: http://www.faa.gov/about/office_org/headquarters_offices/ast/advisory_committee/.

Issued in Washington, DC, March 14, 2012.
George C. Nield,
Associate Administrator for Commercial Space Transportation.

[FR Doc. 2012-6832 Filed 3-21-12; 8:45 am]

BILLING CODE 4910-13-P